DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of June and July 2005.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a) (2) (B) (II.B) (No shift in production to a foreign country) have not been met.

TA-W-57,224; Meridian Automotive Systems, Inc., Canandaigua, NY

TA-W-57,131; Merry Maid Novelties, Bangor, PA

TA-W-57,145; Columbia Lighting, Hubbell Lighting, Inc. Division, Spokane, WA

TA-W-57,197; Penn Ventilation, a subsidiary of Air System Components, LP, Tabor City, NC

TA-W-56,565; Kraft Foods Global, Inc., South Edmeston Manufacturing, New Berlin, NY

TA-W057,206; Motor Components, LLC, Elmira, NY

TA-W-57,111; Dayco Products LLC, Engineering Department, Rochester Hills, MI

TA-W-57,172; Meridian Automotive Systems, Inc., Newton, NC

TA-W-57,214; Omnova Solutions, Inc., Decorative Products Div., Jeannette, PA

TA-W-57,230; Lear Automotive Manufacturing, LLC, Monroe, MI

TA-W-57,345; Merrimac Paper Co., Lawrence, MA

TA-W-56,986; BASF Corp., Agricultural Products Div., Beaumont, TX

TA-W-57,171; Focus: Hope, Manufacturing Div., Detroit, MI

TA-W-57,247 &A Menasha Packaging Co., LLC Neenah, WI and Hartford, WI

TA-W-57,285; Pemstar Chaska Div., Chaska, MN

TA-W-57,465; Premier Refractories, Snow Shoe, PA

TA-W-57,190; National Wood Products, Oxford, ME

The investigation revealed that criteria (a)(2)(A)(I.B.) (Sales or production, or both, did not decline) and (a)(2)(B) (II.B) (No shift in production to a foreign country) have not been met.

TA-W-57,306; Bernhardt Furniture Co., Plant 3, Contract Office Furniture Div., Lenoir, NC

The investigation revealed that criterion (a)(2)(A)(I.A) and (a)(2)(B)(II.A) (no employment decline) has not been met.

TA-W-57,240; Consolidated Metco, Inc., Rivergate Div., Portland, OR

TA-W-57,302; Fisher-Rosemount Systems, Inc., d/b/a Emerson Process Management, a div. of Emerson Electric, Austin, TX

TA-W-57,260; Renfro Corp., Fort Payne, AL

The workers firm does not produce an article as required for certification under Section 222 of the Trade Act of 1974.

TA-W-57,305; Robcol, Inc., Shippenville, PA

TA-W-57,256; AC Nielson (US), Inc., TD-Operations, Wilton, CT

TA-W-57,193; DAP Technologies Corp., Plattsburgh Service Center, Plattsburgh, NY

TA-W-57,186; Robinson Manufacturing Co., Oxford, ME

TA-W-57,313; Dorby Frocks, Warehouse/Distribution, Bishopville, SC

TA-W-57,351; Medicare Association of UGS, LLC, a subsidiary of United Government Services, LLC, Ashland, WI

TA-W-57,366; Office Depot, Inc., Torrance, CA

TA-W-57,213; Sandisk Corp., Sunnyvale, CA

TA-W-57,378; Emerson Network Power Energy Systems, formerly know as Marconi Communication, Toccoa, GA

TA-W-57,169; Management Decisions of South Carolina, a div. of Management Decisions, Inc., working at GE Energy, Schenectady, NY

TA-W-57,201; CDI Business Solutions, workers producing ink pens employed at Hewlett Packard, Corvallis, OR

TA-W-57,211; Aerotek, a member of Allegis Group, leased on-site workers at Hewlett-Packard Co., Corvallis, OR

TA-W-57,268; Dun and Bradstreet, Inc., Austin, TX

TA-W-57,314; Wex Tex Industries, Inc., Ashford, AL

TA-W-57,358; Northwest Staffing Resources, working at Radisys Corp., Hillsboro, OR

TA-W-57,136; Manpower, Inc., On-site leased workers at Hewlett-Packard Co., Corvallis, OR

TA-W-57,143; ACCPAC International, Inc., Customer Support, Santa Rosa, CA

TA-W-57,175; Oxystat, Inc., Stat Medical Devices, North Miami, FL

TA-W-57,284; Samsung Information Systems America, Digital Printing Solutions Lab, woodbury, MN

TA-W-57,361; ACS Affiliated Computer Services, Kennett, MO

TA-W-57,382; Gas Transmission Service Co., a div. of The Transcanada Corp., Spokane, WA

TA-W-57,234; Lucent Technologies, Multi-Services Switching, Westford, MA

TA-W-57,265 & A, B; Gas Transmission Service Company, a div. of The Transcanada Corp., Portland, OR, Klamath Falls, OR and Redmond, OR

The investigation revealed that criteria (1) has not been met. A significant number or proportion of the workers in the workers' firm or an appropriate subdivision of the firm have not become totally or partially separated, or are threatened to become totally or partially separated.

TA-W-57,173; ECC Card Clothing, Inc., Simpsonville, SC

Affirmative Determinations for Worker Adjustment Assistance

The following certifications have been issued; the date following the company name and location of each determination references the impact date for all workers of such determination.

The following certifications have been issued. The requirements of (a)(2)(A) (increased imports) of Section 222 have been met.

TA-W-57,275; Integra Tool & Mold, Inc., Erie, PA: May 27, 2004.

TA-W-57,258; Virginia Metal Crafters, Inc., Waynesboro, VA: May 17, 2004.

TA-W-57,183; Panasonic Motor Co., a div. of Panasonic Corp. of North America, Motor Div., including on-site leased workers of CBS Companies Staffing Agency, Berea, KY: May 9, 2004.

TA-W-57,290; Paslode-Cleveland, including leased workers of Kelly Services, Inc., Cleveland, MS: May 23, 2004.

TA-W-57,242; K & C Custom Design, Inc., Greenville, SC: May 19, 2004.

TA-W-57,342; Bemis Company, Inc., Dallas, TX: June 8, 2004.

TA-57,456; Beach Patrol, Inc., Carson, CA: June 13, 2004.

TA-W-57,289; Lane Furniture Industries, Inc., Lane Home Furnishings, Corporate Office, Tupelo, MS: May 18, 2004.

TA-W-57,318; Seneca Foods Corp., Vegetable Div., Dayton, WA: June 3, 2004.

TA-W-57,291; GE Consumer & Industrial, Lighting Div., St. Louis, MO: June 1, 2004.

TA-W-57,272; Calumet Lubricants Co. L.P., Reno Packaging Plant, Reno, PA: May 25, 2004.

TA-W-57,257; IEC Electronics Corp., including on-site leased workers of Aerotek and Kelly Services, Newark, NY: May 16, 2004.

TA-W-57,434; The Pfaltzgraff Co., Downtown York Div., York, PA: June 16, 2004.

TA-W-57,334; Century Furniture Industries, Century Chair Plant #3, Longview, NC: June 7, 2004.

TA-W-57,304; Phil Knit, Inc., Liberty, NC: May 26, 2004.

TA-W-57,299; Bradley Scott Clothes, Inc., Fall River, MA: June 27, 2004.

TA-W-57,286; Bareville Garment Corp., Martindale, PA: May 26, 2004.

TA-W-57,266; Industrial Control Associates, Inc., working on-site at Glad Manufacturing Co., Cartersville, GA: April 30, 2004.

TA-W-57,250; Flowline Division, a subdivision of Markovitz Enterprises, Inc., Whiteville, NC: May 24, 2004.

TA-W-57,243; Celanese Acetate, LLC, a subsidiary of Celanese Corp., Acetate Div., Celco Plant, Narrows, VA: May 17, 2004.

TA-W-57,239; Materials Processing, Inc., Bradner, OH: May 20, 2004.

TA-W-57,225; Newbury's Screen & Stitch, Inc., Park Falls, WI: May 16, 2004.

TA-W-57,218; Frank l. Wells Co., Kenosha, WI: May 19, 2004.

TA-W-57,319; L.R. Nelson Corp., Peoria, IL: June 2, 2004

TA-W-57,156; Acuity Brands, Lithonia Lighting Div., including on-site leased workers of Aerotek, Vermilion, OH: April 20, 2004.

TA-W-57,153 & A; Downeast Woodcrafters, Inc., Skowhegan, ME and Madison, ME: May 10, 2004.

TA-W-57,333; Ready Metal Manufacturing, Chicago, IL: June 7, 2004.

TA-W-57,221 & A, B; Texas Boot, Inc., Manufacturing Plant, Waynesboro, TN, Distribution Center, Lebanon, TN and Corp. Headquarters, Nashville, TN: May 3, 2004.

TA-W-57,199; Ametek, U.S. Gauge Div., Sellersville, PA: May 9, 2005.

TA-W-57,181; Wilmington Products, d/b/a The Northwest Co., Ash, NC: May 11, 2004.

TA-W-57,331; Ready Fixtures, Shell Lake, WI: May 31, 2004.

TA-W-57,252; Bemis Company, Inc., Polyethylene Packaging Group, West Hazleton, PA: May 23, 2004.

TA-W-57,187; Benteler Mechanical Engineering, Inc., Fort Wayne, IN: May 16, 2004.

TA-W-57,202; Frederick Cooper Lamps Co., Chicago, IL: May 17, 2004.

TA-W-57,393; Panther Machine, Inc., including on-site leased workers of Arcadia Staff Resources, Wixom, MI: June 13, 2004.

TA-W-57,261; Burlington Futon Co., Inc., Burlington, VT: May 20, 2004.

The following certifications have been issued. The requirements of (a) (2) (B) (shift in production) of Section 222 have been met.

TA-W-57,425; Visionaire Lighting, Gardena, CA: June 20, 2004.

TA-W-57,387; Gilbert Martin Woodworking Company, Inc., d/b/a Martin Furniture, San Diego, CA: June 9, 2004.

TA-W-57,460; Alandale Knitting Co., Troy, NC: June 22, 2004.

TA-W-57,424; Toter, Inc., including leased workers of Accurate, Venturi, Staffmasters USA, Statesville, NC: June 14, 2004.

TA-W-57,416; IR Security and Safety, a subsidiary of Ingersoll-Rand, including on-site leased workers of Adecco, Colorado Springs, CO: June 17, 2004.

TA-W-57,404; Velcro USA, Inc., Lancaster, SC: June 16, 2004.

TA-W-57,330; Davy Manufacturing, Inc., Collingdale, PA: June 1, 2004.

TA-W-57,398; Target Stamped Products Corp., Kinsman, OH: June 6, 2004.

TA-W-57,395; Nellson Nutraceutical, Eastern Bar Div., Cato, NY: May 26, 2004.

TA-W-57,329; Kimberly-Clark/Avent, Inc., Avent-Fort Worth Division, a subsidiary of Kimberly-Clark Corp., including leased on-site workers of Cornerstone Staffing, Fort Worth, TX: April 1, 2004.

TA-W-57,303; TI Automotive, LLC, Normal, IL: June 2, 2004.

TA-W-57,328; Rehau, Inc., Plant Sturgis Div., Sturgis, MI: June 1, 2004.

TA-W-57,283; Safegard Acquisition Corp., Lancaster, KY: May 23, 2004.

TA-W-57,222; Culp, Inc., Culp Finishing, Burlington, NC: May 12, 2004.

TA-W-57,180; Kimball Electronics Group, a div. of Kimball International, Auburn, IN: May 13, 2004.

TA-W-57,276 & A; Johnson Controls, Inc., System Products Div., Actuator Production, Watertown, WI and Software Duplication Production, Watertown, WI: May 27, 2004.

TA-W-57,227; Black Box Network Services, leased on-site workers at Hewlett-Packard Company, Corvallis, OR: May 18, 2004.

TA-W-57,151; U.S. Zinc, Zinc Oxide Division, Hillsboro Plant, Taylor Springs, IL: May 10, 2004.

TA-W-57,311; EMA, Inc., Polishing Department, New York, NY: May 16, 2004.

TA-W-57,354; Visteon Systems, LLC, Climate Control Div., Connersville, IN: May 25, 2004.

TA-W-57,323; American Safety Razor Co., Wet Shaving Div., a subsidiary of J.W. Childs & Associates, including on-site leased workers of Express Personnel Services, Knoxville, TN: June 1, 2004.

TA-W-57,316; Flow Robotic Systems, Inc., Automation Applications Group, including on-site leased workers of Aerotek, and Dydrologic, Wixom, MI: June 6, 2004.

TA-W-57,264; Kasco Corp., a subsidiary of Bairnco Corp., St. Louis, MO: June 27, 2005.

TA-W-57,208; Wiremold/Legrand, Brooks Electronics Div., including on-site leased workers of Corestaff, Morstaffing and Supreme Staffing, Philadelphia, PA: May 18, 2004.

TA-W-57,359 & A, B, C & D; Mid-West Metal Products Co., Inc., Corporate Office, Muncie, IN, Liberty Street Plant, Muncie, IN, Mt. Pleasant Plant, Muncie, IN, Selma Plant, Muncie, IN and Warehouse Two Plant, Muncie, IN: May 11, 2004.

TA-W-57,217; Wade Manufacturing Co., Wadesboro Div., Wadesboro, NC: May 18, 2004.

The following certification has been issued. The requirement of downstream producer to a trade certified firm has been met.

TA-W-57,203; Assembly Services and Packaging, Inc., Hudson, WI

Negative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

The Department has determined that criterion (2) of Section 246 has not been met. Workers at the firm possess skills that are easily transferable.

TA-W-57,342; Bemis Company, Inc., Dallas, TX

TA-W-57,456; Beach Patrol, Inc., Carson, CA

TA-W-57,258; Virginia Metal Crafters, Inc., Waynesboro, VA

TA-W-52,117; Johnstown America Corp., Johnstown, PA

TA-W-57,290; Paslode-Cleveland, including leased workers of Kelly Services, Inc., Cleveland, MS

TA-W-57,183; Panasonic Motor Co., a div. of Panasonic Corp., of North America, Motor Division, including on-site leased workers of CBS Companies Staffing Agency, Berea, KY

TA-W-57,387; Gilbert Martin Woodworking Co., Inc., d/b/a Martin Furniture, San Diego, CA.

The Department has determined that criterion (1) of Section 246 has not been met. Workers at the firm are 50 years of age or older.

TA-W-57,242; K & C Custom Design, Inc., Greenville, SC

TA-W-57,275; Integra Tool and Mold, Inc., Erie, PA

TA-W-57,425; Visionaire Lighting, Gardena, CA

TA-W-52,448; T.S. Trim Industries, Inc., Athens Div., Athens, OH

Since the workers are denied eligibility to apply for TAA, the workers cannot be certified eligible for ATAA.

TA-W-57,173; ECC Card Clothing, Inc., Simpsonville, SC

TA-W-57,265 & A, B; Gas Transmission Service Co., a div. of The Transcanada Corp., Portland, OR, Klamath Falls, OR and Redmond, OR

TA-W-57,234; Lucent Technologies, Multi-Services Switching, Westford, MA

TA-W-57,382; Gas Transmission Service Co., a div. of The Transcanada Corp., Spokane, WA

TA-W-57,361; ACS Affiliated Computer Services, Kennett, MO

TA-W-57,284; Samsung Information Systems America, Digital Printing Solutions Lab, Woodbury, MN

TA-W-57,175; Oxystat, Inc., Stat Medical Devices, North Miami, FL

TA-W-57,143; ACCPAC International, Inc., Customer Support, Santa Rosa, CA

TA-W-57,136; Manpower, Inc., On-Site Leased Workers at Hewlett-Packard Co., Corvallis, OR

TA-W-57,358; Northwest Staffing Resources, Working at Radisys Corp., Hillsboro, OR

TA-W-57,314; Wex Tex Industries, Inc., Ashford, AL

TA-W-57,268; Dun and Bradstreet, Inc., Austin, TX

TA-W-57,213; Sandisk Corp., Sunnyvale, CA

TA-W-57,211; Aerotek, a member of Allegis Group, leased on-site workers at Hewlett-Packard Co., Corvallis, OR

TA-W-57,201; CDI Business Solutions, workers producing ink pens employed at Hewlett Packard, Corvallis, OR

TA-W-57,169; Management Decisions of South Carolina, a div. of Management Decisions, Inc., workers at GE Energy, Schenectady, NY

TA-W-57,378; Emerson Network Power, Energy Systems, formerly known as Marconi Communication, Toccoa, GA

TA-W-57,366; Office Depot, Inc., Torrance, CA

TA-W-57,351; Medicare Association of UGS, LLC, a subsidiary of United Government Services, LLC, Ashland, WI

TA-W-57,313; Dorby Frocks, Warehouse/Distribution, Bishopville, SC

TA-W-57,186; Robinson Manufacturing Co., Oxford, ME

TA-W-57,260; Renfro Corp., Fort Payne, AL

TA-W-57,302; Fisher-Rosemount Systems, Inc., d/b/a Emerson Process Management, a div. of Emerson Electric, Austin, TX

TA-W-57,240; Consolidated Metco, Inc., Rivergate Div., Portland, OR

TA-W-57,224; Meridian Automotive Systems, Inc., Canandaigua, NY

TA-W-57,131; Merry Maid Novelties, Bangor, PA

TA-W-57,145; Columbia Lighting, Hubbell Lighting, Inc., Div., Spokane, WA

TA-W-57,197; Penn Ventilation, a subsidiary of Air System Components, LP, Tabor City, NC

TA-W-56,565; Kraft Foods Global, Inc., South Edmeston Manufacturing, New Berlin, NY

TA-W-57,206; Motor Components, LLC, Elmira, NY

TA-W-57,111; Dayco Products, LLC, Engineering Department, Rochester Hills, MI

TA-W-57,172; Meridian Automotive Systems, Inc., Newton, NC

TA-W-57,214; Omnova Solutions, Inc., Decorative Products Div., Jeannette, PA

TA-W-57,230; Lear Automotive Manufacturing, LLC, Monroe, MI

TA-W-57,345; Merrimac Paper Co., Lawrence, MA

TA-W-56,986; BASF Corp., Agricultural Products Div., Beaumont, TX

TA-W-57,171; Focus: Hope, Manufacturing Div., Detroit, MI

TA-W-57,247 & A; Menasha Packaging Co., LLC Neenah, WI and Hartford, WI

TA-W-57,285; Pemstar, Chaska Div., Chaska, MN

TA-W-57,465; Premier Refractories, Snow Shoe, PA

Affirmative Determinations for Alternative Trade Ajdustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-57,318; Seneca Foods Corp., Vegetable Div., Dayton, WA: June 3, 2004.

TA-W-57,203; Assembly Services and Packaging, Inc., Hudson, WI: May 17, 2004.

TA-W-57,289; Lane Furniture Industries, Inc., Lane Home Furnishings, Corporate Office, Tupelo, MS: May 18, 2004.

TA-W-57,291; GE Consumer & Industrial, Lighting Div., St. Louis, MO: June 1, 2004.

TA-W-57,272; Calumet Lubricants Co. L.P., Reno Packaging Plant, Reno, PA: May 25, 2004.

TA-W-57,257; IEC Electronics Corp., including on-site leased workers of Aerotek and Kelly Services, Newark, NY: May 16, 2004.

TA-W-57,434; The Pfaltzgraff Co., Downtown York Div., York, PA: June 16, 2004.

TA-W-57,334; Century Furniture Industries, Century Chair Plant #3, Longview, NC: June 7, 2004.

TA-W-57,304; Phil Knit, Inc., Liberty, NC: May 26, 2004.

TA-W-57,299; Bradley Scott Clothes, Inc., Fall River, MA: June 27, 2004.

TA-W-57,286; Bareville Garment Corp., Martindale, PA: May 26, 2004.

TA-W-57,266; Industrial Control Associates, Inc., working on-site at Glad Manufacturing Co., Cartersville, GA: April 30, 2004.

TA-W-57,250; Flowline Division, a subdivision of Markovitz Enterprises, Inc., Whiteville, NC: May 24, 2004.

TA-W-57,243; Celanese Acetate, LLC, a subsidiary of Celanese Corp., Acetate Div., Celco Plant, Narrows, VA: May 17, 2004.

TA-W-57,239; Materials Processing, Inc., Bradner, OH: May 20, 2004.

TA-W-57,225; Newbury's Screen & Stitch, Inc., Park Falls, WI: May 16, 2004.

TA-W-57,218; Frank l. Wells Co., Kenosha, WI: May 19, 2004.

TA-W-57,319; L.R. Nelson Corp., Peoria, IL: June 2, 2004.

TA-W-57,156; Acuity Brands, Lithonia Lighting Div., including on-site leased workers of Aerotek, Vermilion, OH: April 20, 2004.

TA-W-57,153 & A; Downeast Woodcrafters, Inc., Skowhegan, ME and Madison, ME: May 10, 2004.

TA-W-57,333; Ready Metal Manufacturing, Chicago, IL: June 7, 2004.

TA-W-57,221 & A, B; Texas Boot, Inc., Manufacturing Plant, Waynesboro, TN, Distribution Center, Lebanon, TN and Corp. Headquarters, Nashville, TN: May 3, 2004.

TA-W-57,199; Ametek, U.S. Gauge Div., Sellersville, PA: May 9, 2005.

TA-W-57,181; Wilmington Products, d/b/a The Northwest Co., Ash, NC: May 11, 2004.

TA-W-57,331; Ready Fixtures, Shell Lake, WI: May 31, 2004.

TA-W-57,460; Alandale Knitting Co., Troy, NC: June 22, 2004.

TA-W-57,424; Toter, Inc., including leased workers of Accurate, Venturi, Staffmasters USA, Statesville, NC: June 14, 2004.

TA-W-57,416; IR Security and Safety, a subsidiary of Ingersoll-Rand, including on-site leased workers of Adecco, Colorado Springs, CO: June 17, 2004.

TA-W-57,404; Velcro USA, Inc., Lancaster, SC: June 16, 2004.

TA-W-57,330; Davy Manufacturing, Inc., Collingdale, PA: June 1, 2004.

TA-W-57,398; Target Stamped Products Corp., Kinsman, OH: June 6, 2004.

TA-W-57,395; Nellson Nutraceutical, Eastern Bar Div., Cato, NY: May 26, 2004.

TA-W-57,329; Kimberly-Clark/Avent, Inc., Avent-Fort Worth Division, a subsidiary of Kimberly-Clark Corp., including leased on-site workers of Cornerstone Staffing, Fort Worth, TX: April 1, 2004.

TA-W-57,303; TI Automotive, LLC, Normal, IL: June 2, 2004.

TA-W-57,328; Rehau, Inc., Plant Sturgis Div., Sturgis, MI: June 1, 2004.

TA-W-57,283; Safegard Acquisition Corp., Lancaster, KY: May 23, 2004.

TA-W-57,222; Culp, Inc., Culp Finishing, Burlington, NC: May 12, 2004.

TA-W-57,180; Kimball Electronics Group, a div. of Kimball International, Auburn, IN: May 13, 2004.

TA-W-57,276 & A; Johnson Controls, Inc., System Products Div., Actuator Production, Watertown, WI and Software Duplication Production, Watertown, WI: May 27, 2004.

TA-W-57,227; Black Box Network Services, leased on-site workers at Hewlett-Packard Company, Corvallis, OR: May 18, 2004.

TA-W-57,151; U.S. Zinc, Zinc Oxide Division, Hillsboro Plant, Taylor Springs, IL: May 10, 2004.

TA-W-57,311; EMA, Inc., Polishing Department, New York, NY: May 16, 2004.

TA-W-57,354; Visteon Systems, LLC, Climate Control Div., Connersville, IN: May 25, 2004.

TA-W-57,323; American Safety Razor Co., Wet Shaving Div., a subsidiary of J.W. Childs & Associates, including on-site leased workers of Express Personnel Services, Knoxville, TN: June 1, 2004.

TA-W-57,316; Flow Robotic Systems, Inc., Automation Applications Group, including on-site leased workers of Aerotek, and Dydrologic, Wixom, MI: June 6, 2004.

TA-W-57,264; Kasco Corp., a subsidiary of Bairnco Corp., St. Louis, MO: June 27, 2005.

TA-W-57,217; Wade Manufacturing Co., Wadesboro Div., Wadesboro, NC: May 18, 2004.

TA-W-57,208; Wiremold/Legrand, Brooks Electronics Div., including on-site leased workers of Corestaff, Morstaffing and Supreme Staffing, Philadelphia, PA: May 18, 2004.

TA-W-57,359 & A, B, C & D; Mid-West Metal Products Co., Inc., Corporate Office, Muncie, IN, Liberty Street Plant, Muncie, IN, Mt. Pleasant Plant, Muncie, IN, Selma Plant, Muncie, IN and Warehouse Two Plant, Muncie, IN: May 11, 2004.

TA-W-54,714; Carbo Minerals, LP, Wrightstown, WI: March 31, 2003 through April 23, 2006.

TA-W-52,429; Agilent Technologies, ASICS Product Div., (SPD), Fort Collins, CO: July 21, 2002 through September 5, 2005.

TA-W-52,417; Pennsylvania House, Inc., Lewisburg, PA: July 17, 2002 through September 2, 2005

TA-W-54,918; Invensys Appliance Controls, North Manchester, IN: May 14, 2003 through May 28, 2006.

TA-W-54,677; Penn Champ, Inc., East Butler, PA: March 31, 2003 through April 23, 2006.

TA-W-52,415; Todays Plastics, Booneville, AR: July 9, 2002 through September 9, 2005.

TA-W-52,291; Sterling China Co., Wellsville, OH: June 19, 2002 through September 15, 2005.

I hereby certify that the aforementioned determinations were issued during the months of June and July 2005. Copies of these determinations are available for inspection in Room C-5311, U.S. Department of Labor, 200 Constitution Avenue, NW., Washington, DC 20210 during normal business hours or will be mailed to persons who write to the above address.

Dated: July 12, 2005.
Timothy Sullivan,
Director, Division of Trade Adjustment Assistance.

[FR Doc. E5-3840 Filed 7-19-05; 8:45 am]

BILLING CODE 4510-30-P